DEPARTMENT OF THE INTERIOR

Bureau of Land Management

[LLWYP00000-L13200000-GA0000-LVEMK09CK36; WYW172657]

Notice of Availability of the Record of Decision for the Environmental Impact Statement for the South Gillette Area Caballo West Coal Lease-by-Application, Wyoming

AGENCY: Bureau of Land Management, Interior.

ACTION: Notice of Availability

SUMMARY: In accordance with the National Environmental Policy Act of 1969, as amended, the Bureau of Land Management (BLM) announces the availability of the Record of Decision (ROD) for the Caballo West Coal Lease-by-Application (LBA) included in the South Gillette Area Coal Lease Applications Environmental Impact Statement (EIS).

ADDRESSES: The document is available electronically on the following Web site: http://www.blm.gov/wy/st/en/info/NEPA/HighPlains/SouthGillette.html. Paper copies of the ROD are also available at the following BLM office locations:

• Bureau of Land Management, Wyoming State Office, 5353 Yellowstone Road, Cheyenne, Wyoming; and

• Bureau of Land Management, Wyoming High Plains District Office, 2987 Prospector Drive, Casper, Wyoming.

FOR FURTHER INFORMATION CONTACT: Mr. Tyson Sackett, Acting Wyoming Coal Coordinator, at 307-775-6487, or Ms. Mavis Love, Land Law Examiner, at 307-775-6258. Both Mr. Sackett and Ms. Love are located at the BLM Wyoming State Office, 5353 Yellowstone Road, Cheyenne, Wyoming 82009.

SUPPLEMENTARY INFORMATION: The ROD covered by this Notice of Availability (NOA) is for the Caballo West Coal Tract and addresses leasing Federal coal in Campbell County, Wyoming, administered by the BLM Wyoming High Plains District Office. The BLM approves Alternative 2, which is the preferred alternative of the South Gillette Area Coal Lease Applications EIS. Under Alternative 2, the Caballo West Coal LBA area, as modified by the BLM, includes 1,023.99 acres, more or less, and contains an estimated 130.2 million tons of mineable coal. The BLM will announce a competitive coal lease sale in the Federal Register at a later date. The Environmental Protection Agency published a Federal Register notice announcing the Final EIS was publicly available on August 17, 2009 (74 FR 41431).

This decision is subject to appeal to the Interior Board of Land Appeals (IBLA), as provided in 43 CFR part 4, within thirty (30) days from the date of publication of this NOA in the Federal Register. The ROD contains instructions for filing an appeal with the IBLA.

Donald A. Simpson,
State Director.

[FR Doc. 2010-19214 Filed 8-5-10; 8:45 am]

BILLING CODE 4310-22-P